COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List commodities and services to be furnished by nonprofit agencies employing persons who are blind or have other severe disabilities.

EFFECTIVE DATE: October 29, 2001.

ADDRESS: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: On July 27, August 3 and August 10, 2001, the Committee for Purchase From People Who Are Blind or Severely Disabled published notices (66 FR 39142, 40672, 42198) of proposed additions to the Procurement List.

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are added to the Procurement List:

Commodities

Envelope, Translucent

7530-01-354-3982

Soap Shipper

M.R. 431

Plumber's Helper

M.R. 1046

Salad Shaker

M.R. 11839

Services

Grounds Maintenance, National Advocacy Center, 1620 Pendleton Street, Columbia, South Carolina

Janitorial/Custodial, Andrews Air Force Base, Maryland

Janitorial/Custodial,

At the following Richmond, Virginia Locations:

1Lt Monteith USARC

Colonel Dervishian USARC

Richmond AFRC

Janitorial/Grounds Maintenance

At the Following Locations:

Calexico Border Station, 11150 Birch Street,

Calexico, California

El Centro HQ Section, 1111 N. Imperial Avenue, El Centro, California

Existing El Centro Station, 1081 N. Imperial Avenue, El Centro, California

Highway 111 Checkpoint,

Mile Marker 51/Niland,

Niland, California

Highway 86 Checkpoint, 100 Yards South of Highway 78, Highway 78 and Highway 86, Niland, California

This action does not affect current contracts awarded prior to the effective date of this addition or options that may be exercised under those contracts.

Sheryl D. Kennerly,
Director, Information Management.

[FR Doc. 01-24344 Filed 9-27-01; 8:45 am]

BILLING CODE 6353-01-P